DEPARTMENT OF STATE

[Public Notice No. 3386]

Shipping Coordinating Committee, Subcommittee for the Prevention of Marine Pollution; Notice of Meeting

The Subcommittee for the Prevention of Marine Pollution (SPMP), a subcommittee of the Shipping Coordinating Committee, will conduct an open meeting on Tuesday, September 26, 2000, at 9:30 AM in Room 2415, U.S. Coast Guard Headquarters, 2100 Second Street, SW, Washington, DC.

The purpose of this meeting will be to review the agenda items to be considered at the forty fourth session of the Marine Environment Protection Committee (MEPC 45) of the International Maritime Organization (IMO). MEPC 45 will be held from October 2—October 6, 2000. Proposed U.S. positions on the agenda items for MEPC 45 will be discussed.

The major items for discussion for MEPC 45 will include the following:

a. Harmful aquatic organisms in ballast water;

b. Implementation of the OPRC Convention and the OPRC-HNS Protocol;

c. Harmful effects of the use of anti-fouling paints for ships;

d. Consideration and adoption of amendments to mandatory instruments;

e. Identification and protection of Special Areas and Particularly Sensitive Sea Areas;

f. Interpretation and amendments of MARPOL 73/78 and related Codes

g. Prevention of air pollution from ships;

h. Promotion of implementation and enforcement of MARPOL 73/78 and related Codes;

i. Formal safety assessment including environmental indexing of ships; and

j. Matters related to the 1973 Intervention Protocol.

Members of the public may attend this meeting up to the seating capacity of the room. For further information or documentation pertaining to the meeting, contact Lieutenant Commander John Meehan, U.S. Coast Guard Headquarters (G-MSO-4), 2100 Second Street, SW, Washington, DC 20593-0001; Telephone: (202) 267-2714; E-mail: jmeehan@comdt.uscg.mil; or On-line at: http://www.uscg.mil/hq/gm/mso/mso4/mepc.html

Dated: August 28, 2000.
Stephen M. Miller,
Executive Secretary, Shipping Coordinating Committee, U.S. Department of State.

[FR Doc. 00-22658 Filed 9-1-00; 8:45 am]

BILLING CODE 4710-07-P